DEPARTMENT OF ENERGY

Federal Energy Regulatory Commission

[Docket No. RP01-373-002]

Northern Border Pipeline Company; Notice of Compliance Tariff Filing

June 1, 2001.

Take notice that on May 24, 2001, Northern Border Pipeline Company (Northern Border) tendered for filing to become part of Northern Border Pipeline Company's FERC Gas Tariff, First Revised Volume No. 1, the following tariff sheets to become effective May 9, 2001:

Third Revised Sheet Number 270

Second Revised Sheet Number 271

Northern Border states that the purpose of this filing is to comply with the order of the Commission in this proceeding dated May 9, 2001 at 95 FERC ¶61,187.

Northern Border states that copies of this filing have been sent to all parties on the service list in this proceeding.

Any person desiring to protest said filing should file a protest with the Federal Energy Regulatory Commission, 888 First Street, N.E., Washington, D.C. 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi./doorbell.htm.

David P. Boergers,
Secretary.

[FR Doc. 01-14345 Filed 6-6-01; 8:45 am]

BILLING CODE 6717-01-M